DEPARTMENT OF COMMERCE

National Oceanic and Atmospheric Administration

[I.D. 051805A]

Fisheries of the Caribbean, Gulf of Mexico, and South Atlantic; Comprehensive Amendment for the Fishery Ecosystem Plan

AGENCY: National Marine Fisheries Service (NMFS), National Oceanic and Atmospheric Administration (NOAA), U.S. Department of Commerce.

ACTION: Notice of intent to prepare a draft environmental impact statement (DEIS); request for comments.

SUMMARY: The South Atlantic Fishery Management Council (Council) intends to prepare a DEIS to assess the impacts on the natural and human environment of the management measures proposed in its draft Fishery Ecosystem Plan Comprehensive Amendment.

DATES: Written comments on the scope of issues to be addressed in the preliminary DEIS will be accepted through June 30, 2005.

ADDRESSES: Comments and requests for copies of the scoping document should be sent to Robert K. Mahood, Executive Director, South Atlantic Fishery Management Council, One Southpark Circle, Suite 306, Charleston, SC 29407-4699, PHONE: 1-866-SAFMC-10; FAX: 843-769-4520; email: FEPAR@safmc.net.

FOR FURTHER INFORMATION CONTACT: Kim Iverson, Public Information Officer; toll free 1-866-SAFMC-10 or 843-571-4366; kim.iverson@safmc.net.

SUPPLEMENTARY INFORMATION: There has been recent interest in using ecosystem-based management principles to complement the current fishery management regime. It is believed that the incorporation of ecosystem-based principles will improve upon a system that has largely been based on single-species stock assessment and management. Ecosystem principles include the consideration of information that has not been available in the past when managing fish stocks, including predator-prey interactions, the influence of weather and climate on the biological environment, the condition of the habitat/environment, and the role of species diversity to ecosystem functions.

With the Habitat Plan as a cornerstone, the South Atlantic Fishery Management Council (Council) is developing an ecosystem-based approach to resource management. In doing so, the Council is initiating development of a comprehensive resource document that will present fishery and resource information for fisheries in the South Atlantic Bight ecosystem. This document, here referred to as the Fishery Ecosystem Plan (FEP), will build upon the detailed habitat information described in the Council's 1998 Habitat Plan for the South Atlantic. The FEP will describe the detailed ecological and socioeconomic information regarding southeast fisheries from an ecosystem perspective. Information will include the delineation of the geographical extent of the ecosystems, descriptions of species life histories, and the development of a conceptual model of the food web.

Based upon the information developed in the FEP, the Council plans to establish a process to incorporate ecosystem information obtained through the FEP (and future FEP updates) into the current policy-making and management process. The proposed system calls for the initial development of a FEP as described above, in addition to the implementation of a 5-year system-wide evaluation cycle. The FEP will be reviewed, amended, and updated every five years with new scientific knowledge about ecosystem interactions. Concurrent with the development of the FEP will be a determination if new regulations should be incorporated into the current management system. If needed, existing fishery management plans (FMPs) will be amended through a FEP Comprehensive Amendment and in accordance with the National Environmental Policy Act.

In determining the actions to be taken in the initial FEP Comprehensive Amendment, the Council is adopting several recommendations from an Ecosystem Principles Advisory Panel 1999 report to Congress. The report outlined eight basic principles that should be contained in a FEP. Included in these are delineation of geographical extents of ecosystems that occur within the Council's authority, development of a conceptual model of the food web, and calculation of total removals from an ecosystem as a function of fishery-related actions. Using these eight principles as guidance, the Council is considering the following actions in the initial FEP Comprehensive Amendment/DEIS:

1. In order to calculate and characterize total removals from the ecosystem as a consequence of fishery-related actions (i.e., landings, discards, bycatch), the Council is considering requiring a permit to fish for, harvest, or possess any resource in the EEZ for all recreational and commercial fishermen. Other alternatives to calculate and characterize total removals being considered include: Replace the current Snapper/Grouper and Mackerel paper logbook programs by implementing the use of electronic logbooks and implement the Atlantic Coastal Cooperative Statistics Program's (ACCSP) modules. These modules provide the minimum data elements to be collected by all ACCSP partners conducting data collection programs.

2. The following three actions are being considered in order to comply with the Essential Fish Habitat (EFH) final rule (published at 67 FR 2343, January 17, 2002):

a. Refine existing EFH and Essential Fish Habitat-Habitat Areas of Particular Concern (EFH-HAPCs) as necessary;

b. Identify new EFH and/or EFH-HAPCs as necessary;

c. Implement measures to reduce impacts of fishing and non-fishing impacts on EFH and EFH-HAPCs as necessary.

3. Establishment of deep water coral HAPCs, with possible gear limitations in the newly protected areas, is being considered.

4. For enforcement and data collection purposes, requiring Vessel Monitoring Systems (VMS) on commercial, for-hire, and/or private recreational vessels is being considered.

5. The Council is considering amending the Mackerel FMP (as part of the Comprehensive FEP Amendment) with the following ten actions:

a. Add little tunny, bonita, false albacore, greater barracuda, and blackfin tuna to the fishery management unit;

b. Revert to utilizing a control rule in place of a quota-based management system;

c. Modifications to the mackerel framework;

d. Implement a permit to include all fisheries with an endorsement for mackerel;

e. Add new qualifications for king mackerel.

f. Prohibit the sale of recreationally caught coastal migratory pelagics;

g. Implement a standardized bycatch reporting protocol;

h. Modify the current bag, size, and trip limits;

i. Implement a moratorium and limited-entry for Spanish mackerel; and

j. Modify the king mackerel management boundaries.

6. The Council is considering amending the Shrimp FMP with the following two actions:

a. Investigate ways to reduce turtle mortality in the South Atlantic EEZ as a result of shrimp trawling (i.e., prohibition of shrimping during the night-time and gear adjustments); and

b. Implement a limited-entry program for the penaeid shrimp fishery.

7. In order to maintain the optimum size, age, and genetic structure of slow growing, long-lived, deepwater snapper and grouper species (e.g., snowy grouper, speckled hind, and yellowedge grouper) the Council is considering the use of marine protected areas (MPAs) in the South Atlantic EEZ. A total of nine proposed sites are currently being considered.

8. Any other actions that the Council feels are necessary to implement ecosystem-based fishery management in the South Atlantic following the scoping process.

In an effort to use the technical expertise in the region to develop the FEP, the Council has conducted a series of technical workshops during 2003 and 2004, while more are planned for 2005. In addition, the Council has been accepting public input on ecosystem-based fisheries management at each of its Advisory Panel and Council meetings.

Following publication of this Notice of Intent, the Council will conduct a public scoping period that will end on June 30, 2005, where comments will be accepted through electronic mail, mail, or fax. A scoping meeting to determine the scope of significant issues to be addressed in the DEIS will be conducted on June 13, 2005. The meeting will begin at 6 p.m. Following consideration of public comments, the Council plans to prepare and distribute the draft FEP Comprehensive Amendment/DEIS in late 2005. A comment period on the DEIS is planned, which will include public hearings to receive comments. Availability of the DEIS, the dates of the public comment period, and information about the public hearings will be announced in the Federal Register and in local news media.

Authority: 16 U.S.C. 1801 et seq.

Dated: May 18, 2005.
Tracey L. Thompson,
Acting Director, Office of Sustainable Fisheries, National Marine Fisheries Service.

[FR Doc. E5-2580 Filed 5-20-05; 8:45 am]

BILLING CODE 3510-22-S